DEPARTMENT OF THE INTERIOR

Bureau of Land Management

DEPARTMENT OF AGRICULTURE

Forest Service

[CA-668-1040 (P)]

Notice of a Call for Nominations for the Santa Rosa and San Jacinto Mountains National Monument Advisory Committee

AGENCIES: Bureau of Land Management, Interior; Forest Service, Agriculture.

ACTION: Notice.

SUMMARY: Under the Santa Rosa and San Jacinto Mountains National Monument Act of 2000, Pub. L. 106-351 (16 U.S.C. 431 note), the Department of the Interior's Bureau of Land Management and the Department of Agriculture's U.S. Forest Service are opening nominations for five members of the public to serve on the Santa Rosa and San Jacinto Mountains National Monument Advisory Committee. Nominations will be accepted for 45 days following the publication date of this notice. The Committee is managed under the provisions of the Federal Advisory Committee Act.

The call for nominations is for representatives for the Agua Caliente Band of Cahuilla Indians, the cities of Rancho Mirage and Palm Desert, the Winter Park Authority, and the Pinyon Community Council.

DATES: Submit nomination packets to the address listed below no later than June 28, 2004.

ADDRESSES: Request nomination packets and send completed nomination packets to: Advisory Committee Nominations, Ms. Danella George, Bureau of Land Management, P.O. Box 581260, North Palm Springs, California, 92258-1260.

FOR FURTHER INFORMATION CONTACT: Ms. Danella George, Santa Rosa and San Jacinto Mountains National Monument Manager, (760) 251-4800.

SUPPLEMENTARY INFORMATION: As directed by the Act, the Secretary of the Interior and the Secretary of Agriculture jointly established an advisory committee for the Santa Rosa and San Jacinto Mountains National Monument (Monument). The Committee's purpose is to advise the Secretaries with respect to the implementation of a management plan for the Monument. Committee members will be appointed to serve three-year terms. The three-year term would begin November 2004. All members will serve without pay but will be reimbursed for travel and per diem expense at the current rates for government employees under 5 U.S.C. 5703. The Secretary of the Interior will make appointments to the Committee with the concurrence of the Secretary of Agriculture.

The Committee meets 2-3 times a year on a Saturday. The purpose of the Committee is to gather and analyze information, conduct studies and field examinations, hear public testimony, ascertain facts, and, in an advisory capacity only, develop recommendations concerning planning for the management and uses of the National Monument. The designated Federal officer, or his or her designee, in connection with special needs for advice, may call additional meetings. A Committee Chairperson and Vice Chairperson will be elected by the Committee from among its members annually.

Any individual or organization may nominate one or more persons to serve on the Committee. Individuals may nominate themselves for Committee membership. You may obtain nomination forms that each agency requires from the BLM or Forest Service by contacting the individuals listed in ADDRESSES below. To make a nomination, you must submit completed nomination forms, letters of reference from the represented interests or organization, and any other information that speaks to the nominee's qualification, to the offices listed above. You may make nominations for the following categories of interest, as specified in the Act: (1) A representative of the Agua Caliente Band of Cahuilla Indians; (2) a representative from each of the following cities: Rancho Mirage and Palm Desert; (3) a representative of the Winter Park Authority; (4) a representative of the Pinyon Community Council. Nominations to the Committee should describe and document the proposed member's qualifications for membership on the Advisory Committee. Nomination packets will include the nominee's legal name.

Dated: March 17, 2004.
Danella George,
Santa Rosa and San Jacinto Mountains National Monument Manager, Palm Springs Field Office of the Bureau of Land Management.
Dated: March 9, 2004.
Laurie Rosenthal,
District Ranger, San Jacinto Ranger District, San Bernardino National Forest, U.S. Forest Service.

[FR Doc. 04-10918 Filed 5-13-04; 8:45 am]

BILLING CODE 4310-33-P